DEPARTMENT OF AGRICULTURE

Forest Service

RIN 0596-AB93

Forest Service Outdoor Recreation Accessibility Guidelines and Integration of Direction on Accessibility Into Forest Service Manual 2330

AGENCY: Forest Service, USDA.

ACTION: Notice of proposed interim directive; request for comment.

SUMMARY: The Forest Service is proposing to issue an interim directive to guide its employees regarding compliance with the draft Forest Service Outdoor Recreation Accessibility Guidelines (FSORAG). The interim directive would ensure that new or reconstructed developed outdoor recreation areas on National Forest System lands are developed to maximize accessibility, while recognizing and protecting the unique characteristics of the natural setting. The interim directive, to be issued to Forest Service Manual 2330, Publicly Managed Recreation Opportunities, would direct that new or reconstructed outdoor developed recreation areas, including campgrounds, picnic areas, beach access routes, and outdoor recreation access routes, comply with these agency guidelines and applicable Federal accessibility laws, regulations, and guidelines.

The Architectural and Transportation Barriers Compliance Board (Access Board) is preparing to publish for public comment proposed accessibility guidelines for outdoor developed areas that would apply to Federal agencies subject to the Architectural Barriers Act. The Forest Service will finalize the direction in this interim directive regarding compliance with the FSORAG when the Access Board finalizes its accessibility guidelines for outdoor developed areas. The final FSORAG would contain the Access Board's final accessibility guidelines for outdoor developed areas managed by Federal agencies, as supplemented by the Forest Service to ensure the agency's continued application of universal design, as well as agency terminology and processes.

The America the Beautiful—The National Parks and Federal Recreational Lands Pass established by the Federal Lands Recreation Enhancement Act replaced the Golden Access Passport authorized by the Land and Water Conservation Fund Act. The proposed interim directive would enumerate eligibility requirements for the new pass for people with permanent disabilities. In addition, the proposed interim directive would clarify existing internal agency procedures and policies related to the accessibility of outdoor developed recreation areas.

Comments received in response to this notice will be considered in development of the final interim directive. In a related notice published elsewhere in this part of today's Federal Register, the Forest Service is requesting comment on a proposed interim directive to guide its employees regarding compliance with the Forest Service Trail Accessibility Guidelines (FSTAG).

DATES: Comments must be received in writing by April 18, 2005.

ADDRESSES: Send written comments by mail to USDA Forest Service, Attn: Director, Recreation and Heritage Resources Staff, Mail Stop 1125, 1400 Independence Avenue, SW., Washington, DC 20250-0003; by electronic mail to rhwrdevrec@fs.fed.us; or by facsimile to (202) 205-1145. Comments also may be submitted by following the instructions at the Federal e-Rulemaking portal, http://www.regulations.gov. If comments are sent by electronic means or by facsimile, the public is requested not to send duplicate comments via regular mail.

All comments, including names and addresses when provided, will be placed in the record and will be available for public inspection and copying. The public may inspect comments received on this proposed interim directive in the Office of the Director, Recreation and Heritage Resources Staff, USDA, Forest Service, 4th Floor-Central, Sidney R. Yates Federal Building, 201 14th Street, SW., Washington DC, between 8:30 a.m. and 4 p.m. on business days. Those wishing to inspect comments are encouraged to call ahead at (202) 205-1706 to facilitate entry into the building.

FOR FURTHER INFORMATION CONTACT: Janet Zeller, Recreation and Heritage Resources Staff, USDA, Forest Service, (202) 205-9597.

SUPPLEMENTARY INFORMATION:

Background

Although the Forest Service is committed to ensuring the accessibility of agency facilities and programs in order to serve all employees and visitors, as well as to comply with the Architectural Barriers Act of 1968 (ABA) and Section 504 of the Rehabilitation Act of 1973, agency accessibility requirements for outdoor developed recreation areas have not been integrated into the Forest Service Directives System.

The ABA requires facilities that are designed, constructed, altered, or leased by, for, or on behalf of a Federal agency to be accessible. To emphasize the need for accessibility guidelines for outdoor recreation areas, in 1993 the Forest Service developed Universal Access to Outdoor Recreation, A Design Guide. This guidebook blended accessibility into the recreation opportunity spectrum, ranging from urban areas in full compliance with the Uniform Federal Accessibility Standard, the ABA accessibility standards in place at that time, to primitive and Congressionally designated wilderness areas.

The Architectural and Transportation Barriers Compliance Board (Access Board) is the agency responsible for issuing accessibility guidelines for newly constructed and altered facilities subject to the ABA. The Forest Service served on the Access Board's Regulatory Negotiation Committee on Outdoor Developed Areas (Reg Neg Committee). In 1999, the Reg Neg Committee proposed accessibility guidelines for outdoor recreation facilities and trails. While awaiting the completion of the rulemaking process for these guidelines, the Forest Service began developing internal guidelines for both trails and outdoor recreation facilities that would apply only within National Forest System boundaries and that would comply with the public notice and comment process for Forest Service directives pursuant to 36 CFR part 216. This action was undertaken to meet the agency's need to provide a consistent and reliable method for determining application and design of accessible outdoor recreation facilities and trails and is based on the Reg Neg Committee's proposed guidelines. These internal guidelines incorporate the Forest Service's terminology and processes, and establish greater accessibility requirements for certain areas. The Forest Service's proposed guidelines are in two parts, the Forest Service Outdoor Recreation Accessibility Guidelines (FSORAG) and the Forest Service Trail Accessibility Guidelines (FSTAG), both of which are available at http://www.fs.fed.us/recreation/programs/accessibility.

The Access Board plans to publish a notice of proposed rulemaking (NPRM) in the spring of 2005 seeking public comment on proposed accessibility guidelines for outdoor developed areas. The NPRM will contain proposed accessibility guidelines developed by the Reg Neg Committee, and will apply to Federal agencies subject to the ABA.

The Forest Service is proposing to issue an interim directive to Forest Service Manual (FSM) 2330, Publicly Managed Recreation Opportunities, that would require compliance with the FSORAG. The FSORAG would apply to newly constructed or altered camping facilities, picnic areas, beach access routes, outdoor recreation access routes, and other constructed features, including benches, trash and recycling containers, viewing areas at overlooks, telescopes and periscopes, mobility device storage, pit toilets, warming huts, and outdoor rinsing showers in the National Forest System.

The FSORAG would maximize the accessibility of outdoor developed recreation areas for all people, while recognizing and protecting the unique characteristics of the natural setting of each outdoor developed recreation area within the National Forest System. The FSORAG would integrate the Forest Service policy of universal design to ensure the development of programs and facilities to serve all people, to the greatest extent possible. Universal design requires that all new or reconstructed facilities and associated constructed features, rather than only a certain percentage of those facilities, be accessible to all people. Universal design provides for the integration of all people in outdoor developed recreation areas, without separate or segregated access for people with disabilities. In addition, the proposed interim directive would clarify internal agency procedures and policies related to the accessibility of outdoor developed recreation areas, including compliance with the FSORAG.

Like the proposed accessibility guidelines developed by the regulatory negotiation committee established by Access Board, the FSORAG establishes only one level of accessibility for all outdoor developed recreation areas. The FSORAG would provide for application of specific conditions of departure and exceptions, also contained in the proposed accessibility guidelines developed by the regulatory negotiation committee established by the Access Board, when necessary to preserve the uniqueness of each recreation area and when application of the FSORAG would cause a change in the area's setting. Compliance with the FSORAG, however, would not always result in facilities that are accessible to all persons with disabilities, because at some locations the natural environment might prevent full compliance with some of the FSORAG's technical provisions.

The Forest Service will work with the Access Board as it develops final accessibility guidelines for outdoor developed areas. The Forest Service will finalize the direction in this interim directive regarding compliance with the FSORAG when the Access Board finalizes its accessibility guidelines for outdoor developed areas. The final FSORAG will contain the Access Board's final accessibility guidelines for outdoor developed areas managed by Federal agencies, as supplemented by the Forest Service to ensure the agency's continued application of universal design, as well as agency terminology and processes.

In a related notice published elsewhere in this part of today's Federal Register, the agency is requesting comment on a proposed interim directive to guide its employees regarding compliance with the Forest Service Trail Accessibility Guidelines (FSTAG), which would apply to pedestrian hiking trails. The FSORAG and the FSTAG are both available electronically on the World Wide Web at http://www.fs.fed.us/recreation/programs/accessibility. Copies may also be obtained by writing to USDA, Forest Service, Attn: Accessibility Program Manager, Recreation and Heritage Resources Staff, Mail Stop 1125, 1400 Independence Avenue, SW., Washington, DC 20250-0003.

Regulatory Certifications

Environmental Impact

Section 31.1b of Forest Service Handbook (FSH) 1909.15 (57 FR 43180, September 18, 1992) excludes from documentation in an environmental assessment or environmental impact statement “rules, regulations, or policies to establish Service-wide administrative procedures, program processes, or instructions.” The agency's preliminary conclusion is that this proposed interim directive falls within this category of actions and that no extraordinary circumstances exist which would require preparation of an environmental assessment or environmental impact statement.

Regulatory Impact

This proposed interim directive has been reviewed under USDA procedures and Executive Order 12866 on regulatory planning and review. The Office of Management and Budget (OMB) has determined that the accessibility guidelines portion of the proposed interim directive is not economically significant because it would not have an annual economic impact of $100 million or more. However, the accessibility guidelines portion of the proposed interim directive was determined by OMB to be significant because of its relationship to the accessibility guidelines to be issued by the Access Board. Accordingly, this proposed interim directive has been reviewed by OMB pursuant to Executive Order 12866. The regulatory impact analysis is available at http://www.fs.fed.us/recreation/programs/accessibility.

Moreover, this proposed interim directive has been considered in light of the Regulatory Flexibility Act (5 U.S.C. 602 et seq.). It has been determined that this proposed interim directive would not have a significant economic impact on a substantial number of small entities as defined by the act because the proposed interim directive would not impose record-keeping requirements on them; it would not affect their competitive position in relation to large entities; and it would not affect their cash flow, liquidity, or ability to remain in the market. The proposed interim directive would establish accessibility guidelines that would apply internally to the Forest Service and that would have no direct effect on small businesses. No small businesses have been awarded contracts for construction or reconstruction of recreation facilities covered by these accessibility guidelines.

No Takings Implications

This proposed interim directive has been analyzed in accordance with the principles and criteria contained in Executive Order 12630. It has been determined that this proposed interim directive would not pose the risk of a taking of private property.

Civil Justice Reform

This proposed interim directive has been reviewed under Executive Order 12988 on civil justice reform. After adoption of this proposed interim directive, (1) all State and local laws and regulations that conflict with this interim directive or that impede its full implementation would be preempted; (2) no retroactive effect would be given to this interim directive; and (3) it would not require administrative proceedings before parties may file suit in court challenging its provisions.

Unfunded Mandates

Pursuant to Title II of the Unfunded Mandates Reform Act of 1995 (2 U.S.C. 1531-1538), which the President signed into law on March 22, 1995, the agency has assessed the effects of this proposed interim directive on State, local, and Tribal governments and the private sector. This proposed interim directive would not compel the expenditure of $100 million or more by any State, local, or Tribal government or anyone in the private sector. Therefore, a statement under section 202 of the act is not required.

Federalism and Consultation and Coordination With Indian Tribal Governments

The agency has considered this proposed interim directive under the requirements of Executive Order 13132 on federalism, and has made an assessment that the proposed interim directive conforms with the federalism principles set out in this Executive Order; would not impose any compliance costs on the States; and would not have substantial direct effects on the States, the relationship between the Federal government and the States, or the distribution of power and responsibilities among the various levels of government. Therefore, the agency has determined that no further assessment of federalism implications is necessary.

Moreover, this proposed interim directive does not have Tribal implications as defined by Executive Order 13175, “Consultation and Coordination with Indian Tribal Governments,” and therefore advance consultation with Tribes is not required.

Energy Effects

This proposed interim directive has been reviewed under Executive Order 13211 of May 18, 2001, Actions Concerning Regulations That Significantly Affect Energy Supply, Distribution, or Use. It has been determined that this proposed interim directive does not constitute a significant energy action as defined in the Executive Order.

Controlling Paperwork Burdens on the Public

The information an applicant for an America the Beautiful—The National Parks and Federal Recreational Lands Pass would have to submit to document eligibility for receiving the pass free of charge pursuant to Forest Service Manual (FSM) 2331.21b, paragraph 4, constitutes an information collection requirement as defined by the Paperwork Reduction Act and its implementing regulations at 5 CFR part 1320. Information collection requirements require OMB approval before their adoption. This information collection requirement was approved by OMB on December 22, 2003, and was assigned OMB control number 0596-0173.

Dated: February 11, 2005.
Sally Collins,
Acting Chief.

Text of Proposed Interim Directive

Note: The Forest Service organizes its directives system by alphanumeric codes and subject headings. Only those sections of the FSM that are the subject of this notice are set out here. The intended audience for this proposed interim direction is agency employees charged with management of Forest Service outdoor recreation facilities. Only new and revised direction from FSM 2330 is set out in the proposed interim directive. The asterisks indicate that parent text direction unchanged by this proposed interim directive is not set out in this notice. The full text of FSM 2330 is available electronically on the World Wide Web at http://www.fs.fed.us/im/directives.

Forest Service Manual

Chapter 2330—Publicly Managed Recreation Opportunities

2330.1—Authority

See FSM 2301 for general authorities on developing and managing Forest Service recreation sites and facilities. For direction on authorities and technical guidelines related to accessibility of trails, see FSM 2353.01c.

2330.11—Recreation Fees

The Federal Lands Recreation Enhancement Act, Title VIII, Div. J., of the Consolidated Appropriations Act for 2005, Pub. L. 108-447, authorizes the Forest Service to charge standard amenity recreation fees and expanded amenity recreation fees at certain sites or for certain recreational services and retain and spend revenues collected under the act without further appropriation, in accordance with the provisions of the act.

2330.12—Federal and Agency Requirements for Accessibility of Recreation Programs, Sites, and Facilities

Additional information regarding laws, regulations, standards, guidelines, and publications relating to accessibility is available electronically on the World Wide Web at the Access Board's Web site (http://www.access-board.gov) and at the Forest Service's Web site (http://www.fs.fed.us/recreation/programs/accessibility).

1. Architectural Barriers Act (ABA) of 1968, as amended (42 U.S.C. 4151 et seq.). This act requires that all facilities designed, constructed, altered, or leased by a Federal agency be accessible to persons with disabilities.

2. Architectural Barriers Act Accessibility Guidelines (36 CFR part 1191, Appendices C and D). These guidelines were issued by the Architectural and Transportation Barriers Compliance Board (Access Board) in 2004 and apply to buildings and facilities subject to the Architectural Barriers Act of 1968. When adopted as standards by the General Services Administration, they will apply to Forest Service buildings and facilities.

3. Architectural Barriers Act Accessibility Guidelines for Outdoor Developed Areas (36 CFR part 1190). These guidelines will be issued by the Architectural and Transportation Barriers Compliance Board (Access Board) in 2005 and apply to outdoor developed areas managed by Federal agencies subject to the Architectural Barriers Act of 1968. When adopted as standards by the General Services Administration, they will apply to outdoor developed areas managed by the Forest Service.

4. Rehabilitation Act of 1973, as amended, sections 504 and 508 (29 U.S.C. 794 and 794d). Section 504 of this act (29 U.S.C. 794) prohibits Federal agencies and recipients of Federal financial assistance from discriminating against any person with a disability. Section 508 of this act (29 U.S.C. 794d) requires that all electronic and information technology purchased or developed by a Federal agency allow persons with disabilities to have access to and use of the information and data that is comparable to that provided to persons without disabilities.

5. Enforcement of Nondiscrimination on the Basis of Disability in Programs or Activities of USDA (7 CFR parts 15e and 15b). The USDA regulations implementing section 504 of the Rehabilitation Act as it applies to programs and activities conducted by USDA are found at 7 CFR part 15e. The USDA regulations implementing section 504 of the Rehabilitation Act as it applies to USDA-assisted programs are found at 7 CFR part 15b. These provisions address program accessibility; requirements for accessible programs in new, altered, or existing facilities; accessibility transition planning; accessible communication requirements; and compliance procedures.

6. Americans with Disabilities Act of 1990 (ADA) (42 U.S.C. 12101 et seq.). This act prohibits discrimination on the basis of disability by State or local governments, public accommodations, and public transportation. The ADA does not apply to Federal agencies, with the exception of Title V, section 507c. This section clarifies that the Wilderness Act of 1964 is preeminent in federally designated wilderness areas, contains a definition of a wheelchair, and states that a device that meets that definition can be used wherever foot travel is permitted in federally designated wilderness areas.

7. Forest Service Outdoor Recreation Accessibility Guidelines (FSORAG). The FSORAG contains the accessibility guidelines for outdoor developed areas issued by the Architectural and Transportation Barriers Compliance Board (Access Board), as supplemented by the Forest Service to ensure the agency's continued application of universal design, as well as agency terminology and processes. The FSORAG is available electronically on the World Wide Web at http://www.fs.fed.us/recreation/programs/accessibility. Copies may also be obtained by writing to the Accessibility Program Manager, Recreation and Heritage Resources Staff, Washington Office.

* * * * *

[FSM 2330.2 is unchanged.]

2330.3—Policy

* * * * *

[Paragraphs 1-7 are unchanged.]

8. Ensure that all new or rehabilitated facilities, sites, and programs comply with Federal and Forest Service accessibility guidelines and standards (FSM 2330.12, para. 1-7). Facilities, sites, and programs are to utilize universal design (FSM 2330.5) to accommodate the abilities of all people, to the greatest extent possible, including people with disabilities.

* * * * *

[Paragraph 9 and exhibit 01 of FSM 2330.3 and FSM 2330.4-2330.42c are unchanged.]

2330.5—Definitions

Accessible. In compliance with the Federal or Forest Service accessibility guidelines and standards at the time of construction or alteration, whichever is higher.

Universal design. Designing programs and facilities so that all new or reconstructed facilities and associated constructed features, rather than only a certain percentage of those facilities, are accessible to all people, thereby providing for the integration of all people in outdoor developed recreation areas, without separate or segregated access for people with disabilities.

* * * * *

[FSM 2331-2331.21a, paragraph 3, are unchanged.]

2331.21b—Recreation Passes

4. America the Beautiful—The National Parks and Federal Recreational Lands Pass.

a. Privileges. The America the Beautiful—The National Parks and Federal Recreational Lands Pass (Pass) is a lifetime, nontransferable pass that allows the holder to use any National Forest System lands for which a standard amenity recreation fee is charged in accordance with the Federal Lands Recreation Enhancement Act (Title VIII, Div. J, of the Consolidated Appropriations Act for 2005, Pub. L. 108-447).

b. Eligibility. The Pass may be issued free of charge only to citizens of, or persons domiciled in, the United States who have been medically determined to be permanently disabled for purposes of section 7(20)(B)(i) of the Rehabilitation Act of 1973 (29 U.S.C. 705(20)(B)(i)) and who apply for the Pass and provide adequate documentation of a permanent disability and citizenship or residency.

c. Requirements for Issuance. Issue the Pass only to applicants who apply in person and who sign the Pass in the presence of the issuing officer. Inform applicants that they are required to provide one of the following forms of documentation to establish proof of permanent disability:

(1) A document issued by a Federal agency providing Federal benefits, such as the Veteran's Administration, which attests that the applicant has been medically determined to be eligible to receive Federal benefits as a result of a permanent disability. Other acceptable Federal agency documents include proof of receipt of Social Security Disability Income (SSDI) or Supplemental Security Income (SSI);

(2) A statement signed by a licensed physician attesting that the applicant has been medically determined to have a permanent physical, mental, or sensory impairment that severely limits one or more major life activities, and specifying the nature of the impairment;

(3) A document issued by a State agency, such as a vocational rehabilitation agency, which attests that the applicant is eligible to receive vocational rehabilitation agency benefits or services as a result of medically determined permanent disability. Showing a State motor vehicle department disability sticker, license plate, or hang tag is not acceptable documentation for purposes of obtaining the Pass;

(4) A signed Statement of Disability on Forest Service Form FS-2300-42.

* * * * *

(FSM 2331.21c-2332.5 are unchanged.]

2333—Site and Facility Planning and Design

The direction in this section applies to all Federal recreation sites and facilities on National Forest System lands.

2333.03—Policy

* * * * *

[Paragraphs 1-4e are unchanged.]

4. Design and install facilities that are:

f. In compliance with the authorities at FSM 2330.12 setting out Federal and agency requirements related to the accessibility and design of recreation programs, sites, and facilities.

* * * * *

[Paragraphs 4g and 4h are unchanged.]

5. Comply with the Forest Service Outdoor Recreation Accessibility Guidelines (FSORAG) (FSM 2330.12, para. 7):

a. When agency programs, sites, and facilities are not addressed in Federal accessibility standards (FSM 2330.12, para. 2 and 3) or

b. When the FSORAG establishes a higher standard than Federal accessibility standards (FSM 2330.12, para. 2 and 3).

* * * * *

[FSM 2333.1-2333.32 are unchanged.]

2333.33—Integrated Accessibility/Universal Design

Ensure that new or rehabilitated recreation sites, facilities, and elements utilize universal design to accommodate all people, to the greatest extent possible, including persons with disabilities. Eliminate architectural barriers that limit use or enjoyment of recreation opportunities (FSM 2330.3, para. 8, and FSM 2333.03, para. 4f).

* * * * *

[FSM 2333.34-2333.48 are unchanged.]

2333.5—Design Criteria

Use the criteria in FSM 2333.51 through 2333.58 to determine need, location, and type of recreation site improvements.

2333.51—Toilets

1. Locate toilets conveniently; the maximum distance a user should have to travel to a toilet is 500 feet.

2. Provide a sufficient number of toilets. As a general rule, provide one toilet for every 35 persons.

3. Design each toilet to prevent unsanitary conditions and pollution with a minimum of maintenance and to comply with FSM 2330.3, paragraph 8, and FSM 2333.03, paragraph 4f. The design narrative must address the type of toilet facility desirable for a particular site. In determining the type of toilet facility to install, consider initial cost, future operation and maintenance costs, accessibility, and the recreation opportunity spectrum class of the site (FSM 2330.3, ex.01).

2333.52—Recreational Vehicle Sanitary Stations and Waste Water Disposal

Design and install Forest Service recreational vehicle (RV) dump stations only where there is environmental pollution from indiscriminate roadside dumping by persons using Forest Service facilities and/or where commercial RV dump stations are not available within a reasonable driving distance. Encourage the private sector to develop these facilities, and provide the private sector with every opportunity to do so before the Forest Service develops them. Gray water collection and handling systems may be provided on-site when necessary to prevent environmental pollution. Comply with the accessibility requirements for such facilities (FSM 2330.12, para. 7, FSM 2330.3, para. 8, and FSM 2333.03, para. 4f).

2333.53—Refuse and Garbage Disposal

Provide adequate numbers of receptacles, and position them to facilitate litter control. Large, centralized containers or clusters of containers are usually more cost-effective than scattered small containers; use large or clustered containers where practical. Comply with the accessibility requirements for such receptacles and containers (FSM 2330.3, para. 8, and FSM 2333.03, para. 4f).

2333.54—Drinking Water

All water facilities where water is intended for human consumption must meet the standards in FSM 7421, FSM 2330.3, paragraph 8, and FSM 2333.03, paragraph 4f.

* * * * *

[FSM 2333.55-2333.56 are unchanged.]

2333.57—Convenience Facilities

Convenience facilities serve as a source of comfort to forest visitors, rather than meeting their health and safety needs or protecting resources. Design and install convenience facilities to be suitable for the site where they will be located and the use they will receive. FSM 2330.3, exhibit 01, displays the types of convenience facilities normally provided, depending on the planned recreation opportunity spectrum class and development scale. Facilities must comply with FSM 2330.3, paragraph 8, and FSM 2333.03, paragraph 4f.

2333.58—Information Facilities

Install signs and posters where necessary or helpful to visitors, but keep them to a minimum. Provide bulletin boards at a central location for rules, regulations, time limits, and other special information. Information facilities shall comply with FSM 2330.3, paragraph 8, and FSM 2333.03, paragraph 4f.

* * * * *

[FSM 2333.6-2334.22 are unchanged.]

2334.23—Parking Areas and Spurs

Each campground unit must be served by a parking spot or spur that allows safe vehicle parking off the main campground loop road. The last 25 feet of each parking spur should be level, except for the 1-to-2-percent slope necessary for drainage, and as close to the natural grade as possible. Parking spurs required to be accessible shall comply with section 5.0 of the Forest Service Outdoor Recreation Accessibility Guidelines (FSORAG) and other applicable authorities set out at FSM 2330.12, paragraph 7, FSM 2330.3, paragraph 8, and FSM 2333.03, paragraph 4f.

2334.24—Water Access Facilities

Install facilities for boat moorings when campgrounds and picnic grounds are accessible only by boats and when lake bottom and shoreline characteristics do not permit boats to be drawn up safely on the beach for short-term or overnight storage. Boat moorings consisting of docks, piers, jetties, or tie-up anchorages located along the shore shall be in compliance with Federal and Forest Service boating and fishing accessibility guidelines (FSM 2330.3, para. 8, and FSM 2333.03, para. 4f).

* * * * *

[FSM 2334.25 is unchanged.]

2334.26—Camping Units

A standard camping unit consists of a table, fire grill or ring, parking spur, and space for a tent or expansion space to accommodate a recreational vehicle. Locate units at least 25 feet from the edge of the campground road and at least 100 feet from lakes, streams, toilets, and main roads.

Camping units must provide for use of the maximum variety of camping equipment without separate loops or areas for tent or recreational vehicle use, except where local terrain or patterns of use indicate that segregation is practical and desirable. All site furnishings provided in camping units shall comply with the Forest Service Outdoor Recreation Accessibility Guidelines (FSORAG) (FSM 2330.12, para. 7, FSM 2330.3, para. 8, and FSM 2333.03, para. 4f).

1. Tent Camping Units. Tent camping units are appropriate where terrain restrictions preclude development of a spur to accommodate recreational vehicles (RVs). The parking spur is not the focal point of use. A tent camping unit normally should include a 30-foot parking spur, 12-by-16-foot, level tent pad, table, and fireplace. Parking and all tent camping elements shall comply with the FSORAG (FSM 2330.12, para. 7, FSM 2330.3, para. 8, and FSM 2333.03, para. 4f).

2. RV Camping Units. The parking spur is the focal point of use for RV camping units. Provide at least 210 square feet of usable camping space next to the spur.

a. RV camping units should include a parking spur that is at least 50 feet long or a pull-through spur, a picnic table, and a stove, grill, or fire ring. Parking and all camping unit elements shall comply with the FSORAG (FSM 2330.12, para. 7, FSM 2330.3, para. 8, and FSM 2333.03, para. 4f).

b. Where feasible and appropriate to the setting, the remaining parking spurs not included in figure 5.1 of the FSORAG (FSM 2330.12, para. 7, FSM 2330.3, para. 8, and FSM 2333.03, para. 4f) should be at least 16 feet wide.

* * * * *

[FSM 2334.26, paragraph 3, is unchanged.]

2334.27—Picnic Units

A standard single picnic unit consists of one picnic table and, in some cases, a stove, grill, or fireplace. All site furnishings provided in picnic units shall comply with the FSORAG (FSM 2330.12, para. 7, FSM 2330.3, para. 8, and FSM 2333.03, para. 4f). Some of the sites may be provided with 16-foot stationary tables to accommodate two-family use. Space picnic units to permit privacy and prevent overuse.

2334.28—Group Campgrounds and Picnic Grounds

* * * * *

[The unnumbered introductory paragraph and paragraph 1 are unchanged.]

2. Cooking Facilities. Provide each site or component in a group campground or picnic area with a large, open fire grill. A food preparation table may be needed in most group campgrounds, and a food service table is needed in both group campgrounds and picnic areas. All site furnishings provided in group use sites shall comply with the FSORAG (FSM 2330.12, para. 7, FSM 2330.3, para. 8, and FSM 2333.03, para. 4f ).

* * * * *

[The text from paragraph 3 of FSM 2334.28 through FSM 2334.33 are unchanged.]

2334.34—Special Public Services

In general, do not permit stores, restaurants, and other commercial developments within campgrounds and picnic grounds. If the public requires special services, such as equipment rental (for example, rental of boats, bathing suits, or towels), clothes lockers, or shuttle transportation, they may be authorized under a special use authorization (FSM 2343.7). Before these services are authorized, a determination shall be made that there is a need for them that cannot be met on nearby private lands, that it would be financially viable to provide these services, and that they can be furnished at reasonable rates. If facilities are provided, they shall comply with FSM 2330.3, paragraph 8, and FSM 2333.03, paragraph 4f.

* * * * *

[FSM 2334.35 is unchanged.]

2335—Development of Sites Other Than Campgrounds and Picnic Areas

2335.1—Boating Sites

Develop suitable boating sites along lakes, reservoirs, and rivers primarily to launch boats. Sites may also offer boating services, including mooring space, repair services, boat rental, and the sale of gasoline, oil, and miscellaneous items. When these types of services are desirable, allow concessionaires to provide them under a special use authorization (FSM 2343.2 and 2721.52). Facilities that are provided shall comply with the Federal and Forest Service accessibility guidelines for boating and fishing (FSM 2330.3, para. 8, and FSM 2333.03, para. 4f).

2335.11—Design

* * * * *

[Paragraphs 1-5 are unchanged.]

6. Design facilities in accordance with FSM 2330.3, paragraph 8, and FSM 2333.03, paragraph 4f.

* * * * *

[FSM 2335.12-2335.13 and the unnumbered paragraph in FSM 2335.2, Swimming Sites, are unchanged.]

2335.21—Design

5. Ensure that new or reconstructed beach access routes comply with the beach access routes section of the FSORAG (FSM 2330.12, para. 7, and FSM 2333.03, para. 4f).

* * * * *

[The remainder of the chapter (FSM 2335.22-2336) is unchanged.]

[FR Doc. 05-3069 Filed 2-16-05; 8:45 am]

BILLING CODE 3410-11-P